ENVIRONMENTAL PROTECTION AGENCY

[EPA-HQ-OAR-2011-0786; FRL-9476-3]

Proposed Approval of the Central Characterization Project's Remote-Handled Transuranic Waste Characterization Program at Sandia National Laboratory

AGENCY: Environmental Protection Agency.

ACTION: Notice of availability; opening of public comment period.

SUMMARY: The Environmental Protection Agency (EPA or we) is announcing the availability of, and soliciting public comments for 45 days on, the proposed approval of the radioactive, remote-handled (RH), transuranic (TRU) waste characterization program implemented by the Central Characterization Project (CCP) at Sandia National Laboratory (SNL) in Albuquerque, New Mexico. This waste is intended for disposal at the Waste Isolation Pilot Plant (WIPP) in New Mexico.

In accordance with the WIPP Compliance Criteria, EPA evaluated the characterization of RH TRU debris waste from SNL-CCP during an inspection conducted in three steps: Observation of the Visual Examination (VE) and sampling process at SNL on March 8, 2011; dose-to-curie (DTC) measurements on May 10, 2011 at SNL; and, the formal baseline inspection on June 7-8, 2011 in Golden, Colorado. Using the systems and processes developed as part of the U.S. Department of Energy's (DOE's) Carlsbad Field Office (CBFO) program, EPA verified whether DOE could adequately characterize RH TRU waste consistent with the Compliance Criteria. The results of EPA's evaluation of SNL-CCP's RH program and its proposed approval are described in the Agency's inspection report, which is available for review in the public dockets listed in ADDRESSES. We will consider public comments received on or before the due date mentioned in DATES.

This notice summarizes the waste characterization processes evaluated by EPA and EPA's proposed approval. As required by the 40 CFR 194.8, at the end of a 45-day comment period EPA will evaluate public comments received, and if appropriate, finalize the reports responding to the relevant public comments, and issue a final report and approval letter to DOE.

DATES: Comments must be received on or before November 21, 2011.

ADDRESSES: Submit your comments, identified by Docket ID No. EPA-HQ-OAR-2011-0786, by one of the following methods:

• http://www.regulations.gov: Follow the on-line instructions for submitting comments.

• E-mail: to a-and-r-docket@epa.gov.

• Fax: 202-566-1741.

• Mail: Air and Radiation Docket and Information Center, Environmental Protection Agency, Mailcode: 6102T, 1200 Pennsylvania Ave., NW., Washington, DC 20460.

Instructions: Direct your comments to Attn: Docket ID No. EPA-HQ-OAR-2011-0786. The Agency's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically at http://www.regulations.gov. As provided in EPA's regulations at 40 CFR part 2, and in accordance with normal EPA docket procedures, if copies of any docket materials are requested, a reasonable fee may be charged for photocopying.

FOR FURTHER INFORMATION CONTACT: Rajani Joglekar or Ed Feltcorn, Radiation Protection Division, Center for Waste Management and Regulation, Mail Code 6608J, U.S. Environmental Protection Agency, 1200 Pennsylvania Avenue, Washington, DC 20460; telephone number: 202-343-9601; fax number: 202-343-2305; e-mail address: joglekar.rajani@epa.gov or feltcorn.ed@epa.gov.

SUPPLEMENTARY INFORMATION:

I. General Information

A. What should I consider as I prepare my comments for EPA?

1. Submitting CBI. Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

DOE is developing the WIPP, near Carlsbad in southeastern New Mexico, as a deep geologic repository for disposal of TRU radioactive waste. As defined by the WIPP Land Withdrawal Act (LWA) of 1992 (Pub. L. 102-579), as amended (Pub. L. 104-201), TRU waste consists of materials that have atomic numbers greater than 92 (with half-lives greater than twenty years), in concentrations greater than 100 nanocuries of alpha-emitting TRU isotopes per gram of waste. Much of the existing TRU waste consists of items contaminated during the production of nuclear weapons, such as rags, equipment, tools, and sludges.

TRU waste is itself divided into two categories, based on its level of radioactivity. Contact-handled (CH) TRU waste accounts for about 97 percent of the volume of TRU waste currently destined for the WIPP. It is packaged in 55-gallon metal drums or in metal boxes and can be handled under controlled conditions without any shielding beyond the container itself. The maximum radiation dose at the surface of a CH TRU waste container is 200 millirems per hour. CH waste primarily emits alpha particles that are easily shielded by a sheet of paper or the outer layer of a person's skin.

Remote-handled (RH) TRU waste emits more radiation than CH TRU waste and must therefore be both handled and transported in shielded casks. Surface radiation levels of unshielded containers of remote-handled transuranic waste exceed 200 millirems per hour. RH waste primarily emits gamma radiation, which is very penetrating and requires concrete, lead, or steel to block it.

On May 13, 1998, EPA issued a final certification of compliance for the WIPP facility. The final rule was published in the Federal Register on May 18, 1998 (63 FR 27354). The Agency officially recertified WIPP on November 18, 2010 (75 FR 70584). Both the certification and recertification determined that WIPP complies with the Agency's radioactive waste disposal regulations at 40 CFR part 191, subparts B and C, and is therefore safe to contain TRU waste.

The final WIPP certification decision includes conditions that (1) Prohibit shipment of TRU waste for disposal at WIPP from any site other than Los Alamos National Laboratories (LANL) until EPA determines that the site has established and executed a quality assurance program, in accordance with 194.22(a)(2)(i), 194.24(c)(3) and 194.24(c)(5) for waste characterization activities and assumptions (Condition 2 of Appendix A to 40 CFR Part 194); and (2) (with the exception of specific, limited waste streams and equipment at LANL) prohibit shipment of TRU waste for disposal at WIPP (from LANL or any other site) until EPA has approved the procedures developed to comply with the waste characterization requirements of 194.22(c)(4) (Condition 3 of Appendix A to 40 CFR Part 194). The Agency's approval process for waste generator sites is described in 194.8 (revised July 2004).

Condition 3 of the WIPP Certification Decision requires EPA to conduct independent inspections at DOE's waste generator/storage sites of their TRU waste characterization capabilities before approving their program and the waste for disposal at the WIPP. The Agency's inspection and approval process gives EPA (a) Discretion in establishing technical priorities, (b) the ability to accommodate variation in the site's waste characterization capabilities, and (c) flexibility in scheduling site waste characterization inspections.

As described in Section 194.8(b), EPA's baseline inspections evaluate each waste characterization process component (equipment, procedures, and personnel training/experience) for its adequacy and appropriateness in characterizing TRU waste destined for disposal at WIPP. During an inspection, the site demonstrates its capabilities to characterize TRU waste(s) and its ability to comply with the regulatory limits and tracking requirements under 194.24. A baseline inspection may describe any limitations on approved waste streams or waste characterization processes [194.8(b)(2)(iii)]. In addition, a baseline inspection approval must specify what subsequent waste characterization program changes or expansion should be reported to EPA [194.8(b)(4)]. The Agency is required to assign a Tier 1 (T1) or Tier 2 (T2) designation to the reportable changes depending on their potential impact on data quality. A T1 designation requires that the site must notify EPA of proposed changes to the approved components of an individual waste characterization process (such as radioassay equipment or personnel), and EPA must also approve the change before it can be implemented. A waste characterization element with a T2 designation allows the site to implement changes to the approved components of individual waste characterization processes (such as visual examination procedures) but requires EPA notification. The Agency may choose to inspect the site to evaluate technical adequacy before approval. EPA inspections conducted to evaluate T1 or T2 changes are follow-up inspections under the authority of 194.24(h). In addition to the follow-up inspections, if warranted, EPA may opt to conduct continued compliance inspections at TRU waste sites with a baseline approval under the authority of 194.24(h).

The site inspection and approval process outlined in 194.8 requires EPA to issue a Federal Register notice proposing the baseline compliance decision, docket the inspection report for public review, and seek public comment on the proposed decision for a period of 45 days. The report must describe the waste characterization processes EPA inspected at the site, as well as their compliance with 194.24 requirements.

III. Proposed Baseline Compliance Decision

EPA has performed a baseline inspection of RH TRU waste characterization activities at SNL-CCP (EPA Inspection No. EPA-SNL-CCP-RH-06.11-8). The purpose of EPA's inspection was to verify that the waste characterization program implemented at SNL-CCP for characterizing RH TRU, retrievably-stored, debris waste is technically adequate and meets the regulatory requirements at 40 CFR 194.24.

The inspection took place in three steps: observation of the Visual Examination (VE) and sampling process at SNL on March 8, 2011; dose-to-curie (DTC) measurements on May 10, 2011 at SNL; and, the formal baseline inspection on June 7-8, 2011, held in Golden, Colorado. The Agency's inspection team evaluated: acceptable knowledge (AK) records; DTC, in conjunction with radionuclide-specific scaling factors supported by radiochemical analyses of smear samples from the parcels; and VE to confirm the physical and radiological contents of waste containers.

The inspection's scope included one RH waste stream, SNL-HCF-S5400-RH, consisting of research and experimental debris generated at SNL from 1973 through 1992. Decontamination operations conducted at SNL from 1995-1997 produced a total of 32 parcels of RH TRU waste that comprise Waste Stream SNL-HCF-S5400-RH. During this inspection, however, EPA evaluated the characterization process for containers from a subset of this waste stream, specifically 19 waste parcels of the waste group PKE00044, referred to as PKE00044 in the accompanying inspection report. The remaining 13 parcels of Waste Stream SNL-HCF-S5400-RH are in two other waste groups, PKE00047 with nine parcels and PKE00027/54 with four parcels. Both of these PKEs will require separate Tier 1 approvals prior to disposal of waste containers belonging to these groups at WIPP.

EPA is proposing to approve the SNL-CCP waste characterization program implemented to characterize RH debris waste from the waste group PKE00044 that was evaluated during this baseline inspection and documented in the accompanying inspection report. The proposed approval includes the following:

(1) The AK process for 19 parcels of the retrievably-stored TRU debris waste from the waste group PKE00044 belonging to SNL Waste Stream SNL-HCF-S5400-RH.

(2) The radiological characterization process using DTC and scaling factors for assigning radionuclide values to 19 parcels of waste from the waste group PKE00044 from Waste Stream SNL-HCF-S5400-RH that is documented in CCP-AK-SNL-501, Revision 1, and supported by the calculation packages referenced in this report.

(3) The VE process to identify waste material parameters (WMPs) and the physical form of the debris waste SNL-HCF-S5400-RH.

This baseline inspection evaluated SNL-CCP's RH waste characterization program for technical adequacy and, when approved, SNL-CCP will continue to use the approved program components to characterize RH waste in accordance with the conditions and restrictions discussed in this report.

This proposed approval applies to 19 parcels from the waste group PKE00044. Upon final approval, however, SNL-CCP may add containers to SNL RH waste group PKE00044, provided the following conditions are met:

1. Additional containers have a pedigree similar to the containers in PKE00044 described in the accompanying inspection report; and

2. SNL-CCP can demonstrate that the radionuclide scaling factors used for PKE00044 are technically appropriate for use in the DTC determination of the radiological characterization of the additional containers.

When SNL-CCP RH identifies additional containers to be added to the waste group PKE00044, notification and submission of the appropriate supporting documentation to EPA will be necessary prior to disposal at the WIPP. Upon receiving the AK and radiological content documentation for the newly-generated RH waste containers to be added to PKE00044, EPA will verify (a) the adequacy and applicability of the scaling factors discussed in the baseline inspection report to the additional containers, (b) the common radiological aspects of the 19 original parcels of PKE00044 and the additional containers, and (c) the technical adequacy of the AK documentation. EPA will evaluate this documentation and, upon determining it to be adequate, SNL-CCP may dispose of the additional containers at the WIPP facility.

In addition, RH containers with different AK pedigree and new or different radionuclide scaling factors that may belong to the waste group PKE00044 and RH containers from the remaining two waste groups (PKE00047 and PKE00027/54) will require a T1 evaluation and approval prior to disposal at the WIPP.

Table 1 below (which is outlined in the accompanying inspection report) identifies the proposed tiering changes based on the baseline inspection elements.

Table 1—Tiering of RH TRU Waste Characterization Processes Implemented by SNL-CCP
[Based on June 6-8, 2011 baseline inspection]
RH Waste characterization process elements | SNL-CCP RH Waste characterization process—T1 changes | SNL-CCP RH Waste characterization process—T2 changes*
Acceptable Knowledge (AK) | Two remaining waste groups (PKE00047 and PKE00027/54) belonging to a debris waste stream SNL-HCF-S5400-RH and any new RH waste stream not approved to date or modification of an approved waste stream to include additional containers, if new or different radionuclide scaling factors are required (AK1) Substantive modification(s)** that have the potential to affect the characterization process to CCP-AK-SNL-500 or CCP-AK-SNL-502 (AK2, AK6) | Notification to EPA: • Upon completion of revisions of CCP-AK-SNL-500, CCP-AK-SNL-502, CCP-TP-005, or nonconformance and corrective action procedures that require CBFO approval*** (AK2, AK5, AK6, AK14). • When the final or revised WSPF, CRR, and related attachments are available (AK10). • When AK accuracy reports are completed, prepared annually at a minimum (AK11).
|  | • When Attachment 4 of CCP-TP-005 is generated to reflect the updated AKSR Source Document Reference List (AK6).
|  | • When Add Container Memoranda have been prepared (AK5).
|  | • When additional Discrepancy Resolution Reports have been prepared (AK4).
|  | • If a Correlation and Surrogate Summary Form (CSSF) is prepared (AK11).
Radiological Characterization (RC), including Dose-To-Curie (DTC) | Application of new scaling factors for isotopic determination other than those documented in CCP-AK-SNL-501 (RC4, RC5) Use of any alternate radiological characterization procedure other than DTC with established scaling factors as documented in CCP-TP-504 and CCP-AK-SNL-501, Revision 1, respectively, or substantive modification** thereof (RC4, RC5) | Notification to EPA upon completion of revisions of CCP-AK-SNL-501 or CCP-TP-504 that require CBFO approval*** (RC1, RC8). Notification to EPA of availability of a revised radiological characterization report, if required for the addition of containers to the approved waste streams (RC5).
| Any new RH waste stream not approved to date or the addition of containers to an approved waste stream that requires changing the established radionuclide scaling factors or radiological characterization process (RC1)
Visual Examination (VE) | VE by reviewing existing audio/visual recordings for Summary Waste Category not covered by this approval (VE2) VE by any new process for S5000 debris wastes (VE2) | Notification to EPA upon completion of changes to VE procedure(s) that require CBFO approval*** (VE1) Addition of new S5000 debris waste streams (VE2).
* SNL-CCP will report all T2 changes to EPA every three months.
** Substantive modification refers to a change with the potential to affect SNL-CCP's RH waste characterization process, e.g., the use of an inherently different type of measurement instrument or the use of probes not described in CCP-TP-504, excluding changes related to solely to safety or to address administrative concerns.
*** Notification to EPA is not necessary when document updates are editorial in nature or are required solely to address administrative concerns.

IV. Availability of the Baseline Inspection Report for Public Comment

EPA has placed the report discussing the results of the Agency's inspection of the SNL-CCP Site in the public docket as described in ADDRESSES. In accordance with 40 CFR 194.8, EPA is providing the public 45 days to comment on these documents. The Agency requests comments on the proposed approval decision, as described in the inspection report. EPA will accept public comment on this notice and supplemental information as described in Section 1 above. The Agency will not make a determination of compliance before the 45-day comment period ends. At the end of the public comment period, EPA will evaluate all relevant public comments and revise the inspection report as necessary. If appropriate, the Agency will then issue a final approval letter and inspection report, both of which will be posted on the WIPP Web site.

Information on the certification decision is filed in the official EPA Air Docket, Docket No. A-93-02 and is available for review in Washington, DC, and at the three EPA WIPP informational docket locations in Albuquerque, Carlsbad, and Santa Fe, New Mexico. The dockets in New Mexico contain only major items from the official Air Docket in Washington, DC, plus those documents added to the official Air Docket since the October 1992 enactment of the WIPP LWA.

Dated: September 26, 2011.
Michael P. Flynn,
Director, Office of Radiation and Indoor Air.

[FR Doc. 2011-25860 Filed 10-5-11; 8:45 am]

BILLING CODE 6560-50-P